DEPARTMENT OF HEALTH AND HUMAN SERVICES

Delegation of Authority

AGENCY: Department of Health and Human Services, Office of the Secretary.

ACTION: Notice.

Notice is hereby given that I have delegated to the Assistant Secretary for Preparedness and Response, the authority under Section 231 of the PHS Act (42 U.S.C. 238), as amended, to accept gifts, excluding gifts of real property, insofar as it applies to the functions assigned to the Office of the Assistant Secretary for Preparedness and Response. This authority was delegated to the Assistant Secretary for Health by the Secretary on December 9, 1982.

This authority is to be executed in accordance with the requirements of Section 231, PHS Act (42 U.S.C. 239), as amended, and any other applicable statutes and regulations of the Department and PHS. This authority may be redelegated.

Exercise of these authorities is concurrent to and does not supplant existing delegations of authority from the Assistant Secretary of Health or the Secretary. Redelegations previously made that are not inconsistent with this delegation may remain in effect until revised.

This delegation is effective upon date of signature.

Dated: November 12, 2009.
Howard K. Koh,
Assistant Secretary for Health.

[FR Doc. E9-28080 Filed 11-20-09; 8:45 am]

BILLING CODE 4150-37-P